DEPARTMENT OF HOMELAND SECURITY

Coast Guard

46 CFR Parts 4, 30, 31, 32, 52, 68, 71, 91, 107, 108, 109, 126, 147, 150, 153, 159, 160, 164, 176, and 197

49 CFR Part 450

[USCG-2006-25697]

RIN 1625-ZA10

Shipping and Transportation; Technical, Organizational, and Conforming Amendments

ACTION: Final rule.

SUMMARY: This rule makes non-substantive changes throughout Titles 46 and 49 of the Code of Federal Regulations. The purpose of this rule is to make conforming amendments and technical corrections to Coast Guard navigation and navigable water regulations. This rule will have no substantive effect on the regulated public.

DATES: This final rule is effective September 25, 2006.

ADDRESSES: Comments and material received from the public, as well as documents mentioned in this preamble as being available in the docket, are part of docket USCG-2006-25697 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on this rule, call Mr. Ray Davis, Coast Guard, telephone 202-372-1461. If you have questions on viewing the docket, call Ms. Renee V. Wright, Program Manager, Docket Operations, telephone 202-493-0402.

SUPPLEMENTARY INFORMATION:

Regulatory History

We did not publish a notice of proposed rulemaking (NPRM) for this regulation. Under both 5 U.S.C. 553(b)(A) and (b)(B), the Coast Guard finds that this rule is exempt from notice and comment rulemaking requirements because these changes involve agency organization and practices, and good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective less than 30 days after publication in the Federal Register.

Background and Purpose

Each year Titles 46 and 49 of the Code of Federal Regulations are updated on October 1. This rule, which becomes effective September 25, 2006, makes other technical and editorial corrections throughout Titles 46 and 49. This rule does not create any substantive requirements.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under the regulatory policies and procedures of DHS is unnecessary. As this rule involves internal agency practices and procedures and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in an expenditure of this magnitude, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(a) and (b), of the Instruction from further environmental documentation because this rule involves editorial, procedural, and internal agency functions. A final “Environmental Analysis Check List” and a final “Categorical Exclusion Determination” are available in the docket where indicated under ADDRESSES.

List of Subjects

46 CFR Part 4

Administrative practice and procedure, Drug testing, Investigations, Marine safety, Nuclear vessels, Radiation protection, Reporting and recordkeeping requirements, Safety, Transportation.

46 CFR Part 30

Cargo vessels, Foreign relations, Hazardous materials transportation, Penalties, Reporting and recordkeeping requirements, Seamen.

46 CFR Part 31

Cargo vessels, Marine safety, Reporting and recordkeeping requirements.

46 CFR Part 32

Cargo vessels, Fire prevention, Marine safety, Navigation (water), Occupational safety and health, Reporting and recordkeeping requirements, Seamen.

46 CFR Part 52

Reporting and recordkeeping requirements, Vessels.

46 CFR Part 68

Oil pollution, Vessels.

46 CFR Part 71

Marine safety, Passenger vessels, Reporting and recordkeeping requirements.

46 CFR Part 91

Cargo vessels, Marine safety, Reporting and recordkeeping requirements.

46 CFR Part 107

Marine safety, Oil and gas exploration, Reporting and recordkeeping requirements, Vessels.

46 CFR Part 108

Fire prevention, Marine safety, Occupational safety and health, Oil and gas exploration, Vessels.

46 CFR Part 109

Marine safety, Occupational safety and health, Oil and gas exploration, Reporting and recordkeeping requirements, Vessels.

46 CFR Part 126

Cargo vessels, Marine safety, Reporting and recordkeeping requirements.

46 CFR Part 147

Hazardous materials transportation, Labeling, Marine safety, Packaging and containers, Reporting and recordkeeping requirements.

46 CFR Part 150

Hazardous materials transportation, Marine safety, Occupational safety and health, Reporting and recordkeeping requirements.

46 CFR Part 153

Administrative practice and procedure, Cargo vessels, Hazardous materials transportation, Marine safety, Reporting and recordkeeping requirements, Water pollution control.

46 CFR Part 159

Business and industry, Laboratories, Marine safety, Reporting and recordkeeping requirements.

46 CFR Part 160

Marine safety, Reporting and recordkeeping requirements.

46 CFR Part 164

Fire prevention, Marine safety, Reporting and recordkeeping requirements.

46 CFR Part 176

Fire prevention, Marine safety, Passenger vessels, Reporting and recordkeeping requirements.

46 CFR Part 197

Benzene, Diving, Marine safety, Occupational safety and health, Reporting and recordkeeping requirements, Vessels.

49 CFR Part 450

Freight, Packaging and containers, Reporting and recordkeeping requirements, Safety.

For the reasons listed in the preamble, the Coast Guard amends 46 CFR parts 4, 30, 31, 32, 52, 68, 71, 91, 107, 108, 109, 126, 147, 150, 153, 159, 160, 164, 176, and 197 and 49 CFR part 450:

TITLE 46—SHIPPING

PART 4—MARINE CASUALTIES AND INVESTIGATIONS

1. The authority citation for part 4 continues to read as follows:

Authority: 33 U.S.C. 1231; 43 U.S.C. 1333; 46 U.S.C. 2103, 2303a, 2306, 6101, 6301, and 6305; 50 U.S.C. 198; Department of Homeland Security Delegation No. 0170.1. Subpart 4.40 issued under 49 U.S.C. 1903(a)(1)(E).

2. Revise the parenthetical at the end of § 4.04-3 to read as follows:

§ 4.04-3 Reports of lack of vessel communication.

* * * * *

(Information collection requirements approved by the Office of Management and Budget under control number 1625-0048)

3. Revise the parenthetical at the end of § 4.04-5, to read as follows:

§ 4.04-5 Substance of reports.

* * * * *

(Information collection requirements approved by the Office of Management and Budget under control number 1625-0048)

PART 30—GENERAL PROVISIONS

4. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.30-7 [Amended]

5. In § 30.30-7, after the word “Telephone:”, remove the text “(202) 267-2978” and add, in its place, the text “(202) 372-1251”.

PART 31—INSPECTION AND CERTIFICATION

6. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.01-3 [Amended]

7. In § 31.01-3(b), after the word “telephone”, remove the text “(202) 267-2988; or fax (202) 267-4816” and add, in its place, the text “(202) 372-1372; or fax (202) 372-1925”.

PART 32—SPECIAL EQUIPMENT, MACHINERY, AND HULL REQUIREMENTS

8. The authority citation for part 32 continues to read as follows:

Authority: 46 U.S.C. 2103, 3306, 3703, 3719; E.O. 12234, 45 FR 58801, 3 CFR, 1980 Comp., p. 277; 49 CFR 1.46; Subpart 32.59 also issued under the authority of Sec. 4109, Pub. L. 101-380, 104 Stat. 515.

9. In § 32.15-15(e), revise the fourth sentence to read as follows:

§ 32.15-15 Anchors, Chains, and Hawsers-TB/ALL

* * * * *

(e) * * * Inquiries concerning classification society standards for anchoring systems should be directed to Commandant (G-PSE-3), 2100 Second Street, SW., Washington DC, 20593-0001; telephone (202) 372-1378 or fax (202) 372-1925.* * *

* * * * *

PART 52—POWER BOILERS

10. The authority citation for part 52 continues to read as follows:

Authority: 46 U.S.C. 3306, 3307, 3703; E.O. 12234, 45 FR 58801, 3 CFR, 1980 Comp., p. 277; Department of Homeland Security Delegation No. 0170.1.

11. Revise the parenthetical at the end of § 52.01-5 to read as follows:

§ 52.01-5 Plans.

* * * * *

(Approved by the Office of Management and Budget under control number 1625-0097)

PART 68—DOCUMENTATION OF VESSELS PURSUANT TO EXTRAORDINARY LEGISLATIVE GRANTS

12. The authority citation for part 68 continues to read as follows:

Authority: 46 U.S.C. 2103; Pub. L. 107-296, 116 Stat. 2135; Department of Homeland Security Delegation No. 0170.1. Subpart 68.01 also issued under 46 U.S.C. App. 876; subpart 68.05 also issued under 46 U.S.C. 12106(d).

13. Revise the parenthetical at the end of § 68.01-5 to read as follows:

§ 68.01-5 Qualification as an 883-1 corporation.

* * * * *

(Approved by the Office of Management and Budget under control number 1625-0027)

PART 71—INSPECTION AND CERTIFICATION

14. The authority citation for part 71 continues to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

§ 71.15-5 [Amended]

15. In § 71.15-5(b), after the word “telephone” remove the text “(202) 267-2988; or fax (202) 267-4816” and add, in its place, the text “(202) 372-1372; or fax (202) 372-1925”.

PART 91—INSPECTION AND CERTIFICATION

16. The authority citation for part 91 continues to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

§ 91.15-5 [Amended]

17. In § 91.15-5(b), after the word “telephone” remove the text “(202) 267-2988; or fax (202) 267-4816” and add, in its place, the text “(202) 372-1372; or fax (202) 372-1925”.

PART 107—INSPECTION AND CERTIFICATION

18. The authority citation for part 107 continues to read as follows:

Authority: 43 U.S.C. 1333; 46 U.S.C. 3306, 3307; 46 U.S.C. 3316; Department of Homeland Security Delegation No. 0170.1; § 107.05 also issued under the authority of 44 U.S.C. 3507.

§ 107.205 [Amended]

19. In § 107.205(a), after the word “telephone” remove the text “(202) 267-2988; or fax (202) 267-4816” and add, in its place, the text “(202) 372-1372; or fax (202) 372-1925”.

PART 108—DESIGN AND EQUIPMENT

20. The authority citation for part 108 continues to read as follows:

Authority: 43 U.S.C. 1333; 46 U.S.C. 3102, 3306; Department of Homeland Security Delegation No. 0170.1.

§ 108.520 [Amended]

21. In § 108.520(a), after the words “approved under approval series” remove the text “160.135” and add, in its place, the text “160.035”.

PART 109—OPERATIONS

22. The authority citation for part 109 continues to read as follows:

Authority: 43 U.S.C. 1333; 46 U.S.C. 3306, 6101, 10104; Department of Homeland Security Delegation No. 0170.1.

23. Revise the parenthetical at the end of § 109.121 to read as follows:

§ 109.121 Operating manual.

* * * * *

(Approved by the Office of Management and Budget under control number 1625-0038)

PART 126—INSPECTION AND CERTIFICATION

24. The authority citation for part 126 continues to read as follows:

Authority: 33 U.S.C. 1321(j); 46 U.S.C. 3205, 3306, 3307; 46 U.S.C. Chapter 701; Executive Order 111735, 38 FR 21243, 3 CFR 1971-1975 Comp., p. 793; Department of Homeland Security Delegation No. 0170.1.

§ 126.235 [Amended]

25. In § 126.235(b), after the words “available from” remove the text “Commandant (G-MSE), 2100 Second St., SW., Washington, DC 20593-0001; telephone (202) 267-6925; or fax (202) 267-4816.” and add, in its place, the text “Commandant (G-PSE-2), 2100 Second St., SW., Washington, DC 20593-0001; telephone (202) 372-1372; or fax (202) 372-1925.”

PART 147—HAZARDOUS SHIPS' STORES

26. The authority citation for part 147 continues to read as follows:

Authority: 46 U.S.C. 3306; E.O. 12234, 45 FR 58801, 3 CFR, 1980 Comp., p. 277; Department of Homeland Security Delegation No. 0170.1.

§ 147.5 [Amended]

27. In § 147.5 text, after the words “telephone number is” remove the text “(202) 267-0214” and add, in its place, the text, “(202) 372-1401”.

PART 150—COMPATIBILITY OF CARGOES

28. The authority citation for part 150 continues to read as follows:

Authority: 46 U.S.C. 3306, 3703; Department of Homeland Security Delegation No. 0170.1. Section 150.105 issued under 44 U.S.C. 3507; Department of Homeland Security Delegation No. 0170.1.

§ 150.140 [Amended]

29. In § 150.140, after the text “(tel. no.” remove the text “(202) 267-1577” and add, in its place, the text “(202) 372-1425”.

Table 1 to Part 150 [Amended]

30. In footnote 1. to Table I to part 150, after the word “Telephone”, remove the text “(202) 267-1577” and add, in its place, the text “(202) 372-1425”.

Table II to Part 150 [Amended]

31. In footnote 1. to Table II to part 150, after the word “Telephone”, remove the text “(202) 267-1577” and add, in its place, the text “(202) 372-1425”.

PART 153—SHIPS CARRYING BULK LIQUID, LIQUEFIED GAS, OR COMPRESSED GAS HAZARDOUS MATERIALS

32. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903 (b).

§ 153.490 [Amended]

33. In § 153.490(a)(1), after the words “OMB App. No.” remove the text “2115-0089” and add, in its place, the text “1625-0094”.

§ 153.1025 [Amended]

34. In § 153.1025(c), after the text “telephone (“ remove the text “(202) 267-1217” and add, in its place, the text “(202) 372-1425”.

§ 153.1119 [Amended]

35. In § 153.1119(c) introductory text, after the text “tel num;” remove the text “202-267-1217” and add, in its place, the text “202-372-1425”.

§ 153.1608 [Amended]

36. In the Note at the end of § 153.1608, after the text “tel#” remove the text “202-267-1217” and add, in its place, the text “202-372-1425”.

PART 159—APPROVAL OF EQUIPMENT AND MATERIALS

37. The authority citation for part 159 continues to read as follows:

Authority: 46 U.S.C. 3306, 3703; 49 CFR 1.45, 1.46; Section 159.001-9 also issued under the authority of 44 U.S.C. 3507.

38. Revise § 159.001-5 to read as follows:

§ 159.001-5 Correspondence and applications.

Unless otherwise specified, all correspondence and applications in connection with approval and testing of equipment and materials must be addressed to: Commandant (G-PSE-4), U.S. Coast Guard, 2100 Second Street, SW., Washington, DC 20593-0001, Telephone: (202) 372-1392, Facsimile: (202) 372-1924.

PART 160—LIFESAVING EQUIPMENT

39. The authority citation for part 160 continues to read as follows:

Authority: 46 U.S.C. 2103, 3306, 3703 and 4302; E.O. 12234, 45 FR 58801, 3 CFR, 1980 Comp., p. 277; 49 CFR 1.46.

40. In § 160.076-5 revise the definition of “Commandant” to read as follows:

§ 160.076-5 Definitions

* * * * *

Commandant means the Chief of the Lifesaving and Fire Safety Standards Division, Marine Safety and Environmental Protection. Address: Commandant (G-PSE-4), U.S. Coast Guard Headquarters, 2100 Second St., SW., Washington, DC 20593-0001; phone: 202-372-1392; facsimile: 202-372-1924.

* * * * *

PART 164—MATERIALS

41. The authority citation for part 164 continues to read as follows:

Authority: 46 U.S.C. 3306, 3703, 4302; E.O. 12234, 45 FR 58801, 3 CFR, 1980 Comp., p. 277; 49 CFR 1.46.

§ 164.019-3 [Amended]

42. In § 164.019-3, in the definition for “Commandant”, after the text “phone:” remove the text “202-267-1444” and add, in its place the text “202 372-1392”.

PART 176—INSPECTION AND CERTIFICATION

43. The authority citation for part 176 continues to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.

§ 176.665 [Amended]

44. In § 176.665(a), after the words “in compliance with” remove the text “§ 176.605” and add, in its place, the text “§ 176.600”.

PART 197—GENERAL PROVISIONS

45. The authority citation for part 197 continues to read as follows:

Authority: 33 U.S.C. 1509; 43 U.S.C. 1333; 46 U.S.C. 3306, 3703, 6101; Department of Homeland Security Delegation No. 0170.1.

46. Revise the parenthetical at the end of § 197.486 to read as follows:

§ 197.486 Retention of records after casualty.

* * * * *

(The reporting requirement in paragraph (a) was approved by OMB under control number 1625-0001)

TITLE 49—TRANSPORTATION

PART 450—GENERAL

47. The authority citation for part 450 continues to read as follows:

Authority: Sec. 4, 91 Stat 1475 (46 U.S.C. 1503); Department of Homeland Security Delegation No. 0170.1.

§ 450.7 [Amended]

48. Revise the parenthetical at the end of § 450.7 to read as follows:

§ 450.7 Marking.

* * * * *

(Approved by the Office of Management and Budget under OMB control number 1625-0024)

Dated: September 18, 2006.
Stefan G. Venckus,
Chief, Office of Regulations and Administrative Law, United States Coast Guard.

[FR Doc. 06-8133 Filed 9-22-06; 8:45 am]

BILLING CODE 4910-15-P